DEPARTMENT OF THE INTERIOR

National Park Service

[NPS-WASO-NAGPRA-20020; PPWOCRADN0-PCU00RP14.R50000]

Notice of Inventory Completion: Fowler Museum at the University of California Los Angeles, Los Angeles, CA, and California Department of Transportation, Sacramento, CA

AGENCY: National Park Service, Interior.

ACTION: Notice.

SUMMARY: The Fowler Museum at the University of California Los Angeles (UCLA) and the California Department of Transportation have completed an inventory of human remains and associated funerary objects, in consultation with the appropriate Indian tribes or Native Hawaiian organizations, and have determined that there is a cultural affiliation between the human remains and associated funerary objects and present-day Indian tribes or Native Hawaiian organizations. Lineal descendants or representatives of any Indian tribe or Native Hawaiian organization not identified in this notice that wish to request transfer of control of these human remains and associated funerary objects should submit a written request to the California Department of Transportation. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the California Department of Transportation at the address in this notice by February 26, 2016.

ADDRESSES: Tina Biorn, California Department of Transportation, P.O. Box 942874 MS 27, Sacramento, CA 94271-0001, telephone (916) 653-0013, email tina.biorn@dot.ca.gov.

SUPPLEMENTARY INFORMATION: Notice is here given in accordance with the Native American Graves Protection and Repatriation Act (NAGPRA), 25 U.S.C. 3003, of the completion of an inventory of human remains and associated funerary objects in the physical custody of the Fowler Museum at UCLA and under the control of the California Department of Transportation. The human remains and associated funerary objects were removed from Santa Barbara and Ventura Counties, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Fowler Museum at UCLA professional staff in consultation with representatives of Santa Ynez Band of Chumash Mission Indians of the Santa Ynez Reservation, California, and the following nonfederally recognized Indian groups: Barbareno Chumash Council; Barbareno/Ventureno Band of Mission Indians; Coastal Band of the Chumash Nation; Fernandeño Tataviam Band of Mission Indians; Gabrielino/Tongva Indians of California Tribe; Gabrielino/Tongva Nation; Gabrieleno/Tongva Tribal Council; Northern Chumash Tribe; San Gabriel Band of Mission Indians; Ti'at Society; and the Traditional Council of Pimu.

History and Description of the Human Remains and Associated Funerary Objects

In 1966 and 1967, human remains representing at minimum, 108 individuals were removed from Xucu (CA-SBA-1) in Santa Barbara County, CA. Excavations were undertaken by a UCLA field course directed by Patrick Finnerty for the State Division of Highways prior to construction of Highway 101. This work continued in 1967, in addition to excavations led by Gary Stickel within an adjacent cemetery. Both sets of collections were curated upon completion of analysis as provided in the permits. Not all of the 1966 burials were curated at UCLA, and their current location is unknown. Radiocarbon dates have occupation from 5500 B.C. through Spanish contact periods. In 1966, formal burials and fragmentary human remains were discovered and removed for curation. The total minimum number of individuals represented are 28, identified as 16 adults (1 male, 1 female, and 14 unidentified), 2 sub-adults, 2 juvenile, and 3 infants. Another 5 individuals were too fragmentary to identify age or sex. In 1967, 43 burials were formally identified, however several where left in-situ after recording them. In addition, fragmentary human remains were recovered. In total, a minimum number of 80 individuals can be identified as 60 adults, 3 sub-adults, 12 juveniles, 3 infants, and 2 perinatal. In addition 21 were identifiable as male and 11 as female. No known individuals were identified. No associated funerary objects were identified for the burials found in 1966. The 726 associated funerary objects excavated in 1967 included 19 pieces and 1 bag of asphaltum fragments; 20 pieces of worked bone; 189 pieces and 3 bags of unmodified animal bone; 1 piece of charcoal; 12 pieces of hematite; 14 pieces of limonite; 1 fragment of a paper candlewick; 2 bags of soil samples; 1 wood fragment; 123 pieces and 2 bags of unmodified shell; 2 asphaltum plugged abalone shells; 22 shell beads; 7 bowl/mortar fragments; 167 groundstone tools and fragments; 139 chipped stone tools and flakes; and 1 steatite pipe.

In 1969-1970, human remains representing, at minimum, one individual were removed from Kasil (CA-SBA-87) in Santa Barbara County, CA. Excavations by G. James West occurred at the request of the Division of Highways as a salvage project undertaken prior to highway construction on Highway 101. Collections were accessioned at UCLA as they returned from the field. The village dates from A.D. 300 to 1500. Human remains consist of a single burial representing an adult male. The burial was disturbed when a bulldozer cut a trench on the upper terrace. Further investigation of the trench failed to show the exact burial location. No known individuals were identified. No associated funerary objects were identified.

From 1961 to 1963, human remains representing, at minimum, five individuals were removed from Rincon Point (CA-SBA-119) in Santa Barbara County, CA. Excavations in 1961 and 1962 were led by Patrick Finnerty while still in high school. Most of the human remains and artifacts have not been located, however at least some of three burials and objects have been found and curated at the Fowler Museum at UCLA. In 1963, excavations were directed by Keith Johnson with the UCLA Archaeological Survey preliminary as a salvage excavation due to the re-location of U.S. Highway 101 which would pass through the site. The collection was curated at UCLA upon completion of the field work. The site dates from 1735 to 1320 B.C. The human remains consist of a single burial with a minimum of two individuals: A sub-adult male and an adult, sex unknown. The three relocated burials represent a minimum of three individuals, one adult male, one juvenile, and one adult with undetermined sex. No known individuals were identified. The 16 associated funerary objects include 8 sandstone mortar fragments from a 1962 burial and 2 shell fragments, 1 bone hairpin, 3 biface, 1 unmodified animal bone, and 1 serpentine pendant from a 1963 burial.

In 1968 and 1969, human remains representing, at minimum, 16 individuals were removed from Pitas Point (CA-VEN-27) in Ventura County, CA. Excavations were conducted by a University of California Archaeological Survey crew under the direction of Chester King. The excavation was part of a salvage project for the realignment of Highway 101, and took place on land owned by Caltrans. This collection was curated at UCLA after analysis was complete. Analysis of the artifacts places the site occupation to A.D. 1000-1550. Three formal burials and fragmentary human remains recovered from midden contexts include 13 adults (2 male, 1 female, and 10 unidentified), 1 juvenile, and 1 infant. One fragmentary remain could not be aged or sex determined. No known individuals were identified. The 50 associated funerary objects include 2 bags and 6 pieces of unmodified animal bone, 2 worked bone fragments, 1 bag of charcoal, 6 bags of asphaltum, 1 bag and 2 individual tarring pebbles, 5 bags of unmodified shell, 1 shell fishhook fragment, 1 shell bead fragment, 21 chipped stone flakes and tools, 1 fire cracked rock, and 1 pestle.

The sites detailed in this notice have been identified through tribal consultation to be within the traditional territory of the Chumash people. These locations are consistent with ethnographic and historic documentation of the Chumash people.

The Chumash territory, anthropologically defined first on the basis of linguistic similarities, and subsequently on broadly shared material and cultural traits, reaches from San Luis Obispo to Malibu on the coast, inland to the western edge of the San Joaquin Valley, to the edge of the San Fernando Valley, and includes the four Northern Channel Islands. At the southern and southeastern boundaries of the territory there is evidence of the physical co-existence of Chumash, Tataviam, and Gabrielino/Tongva languages and beliefs systems. At the northern boundary of the territory there is evidence of the physical co-existence of Chumash and Salinan groups. The sites in this notice are located in Ventura and Santa Barbara counties and fall within the geographical area identified as Chumash. Some tribal consultants state that these areas were the responsibility of regional leaders, who were themselves organized into a pan-regional association of both political power and ceremonial knowledge. Further, these indigenous areas are identified by some tribal consultants to be relational with clans or associations of traditional practitioners of specific kinds of indigenous medicinal and ceremonial practices. Some tribal consultants identified these clans as existing in the pre-contact period and identified some clans as also existing in the present day. Other tribal consultants do not recognize present-day geographical divisions to be related to clans of traditional practitioners. However, they do state that Chumash, Tataviam, and Gabrielino/Tongva territories were and are occupied by socially distinct, yet interrelated, groups which have been characterized by anthropologists. Ethnographic evidence suggests that the social and political organization of the pre-contact Channel Islands were primarily at the village level, with a hereditary chief, in addition to many other specialists who wielded power.

The associated funerary objects described in this notice are consistent with those of groups ancestral to the present-day Chumash, Tataviam, and Gabrielino/Tongva people. The material cultures of earlier groups living in the geographical areas mentioned in this notice are characterized by archeologists as having passed through stages over the past 10,000 years. Many local archeologists assert that the changes in the material culture reflect evolving ecological adaptations and related changes in social organization of the same populations and do not represent population displacements or movements. The same range of artifact types and materials were used from the early pre-contact period until historic times. Tribal consultants explicitly state that population mixing, which did occur on a small scale, would not alter the continuity of the shared group identities of people associated with specific locales. Based on this evidence, continuity through time can be traced for all sites listed in this notice with present-day Chumash people, specifically the Santa Ynez Band of Chumash Mission Indians of the Santa Ynez Reservation, California.

Determinations Made by the California Department of Transportation

Officials of the California Department of Transportation have determined that:

• Pursuant to 25 U.S.C. 3001(9), the human remains described in this notice represent the physical remains of 130 individuals of Native American ancestry.

• Pursuant to 25 U.S.C. 3001(3)(A), the 792 objects described in this notice are reasonably believed to have been placed with or near individual human remains at the time of death or later as part of the death rite or ceremony.

• Pursuant to 25 U.S.C. 3001(2), there is a relationship of shared group identity that can be reasonably traced between the Native American human remains and associated funerary objects and the Santa Ynez Band of Chumash Mission Indians of the Santa Ynez Reservation, California.

Additional Requestors and Disposition

Lineal descendants or representatives of any Indian tribe or Native Hawaiian organization not identified in this notice that wish to request transfer of control of these human remains and associated funerary objects should submit a written request with information in support of the request to Tina Biorn, California Department of Transportation, P.O. Box 942874 MS 27, Sacramento, CA 94271-0001, telephone (916) 653-0013, email tina.biorn@dot.ca.gov, by February 26, 2016. After that date, if no additional requestors have come forward, transfer of control of the human remains and associated funerary objects to Santa Ynez Band of Chumash Mission Indians of the Santa Ynez Reservation, California, may proceed.

The California Department of Transportation is responsible for notifying the Santa Ynez Band of Chumash Mission Indians of the Santa Ynez Reservation, California, that this notice has been published.

Dated: December 21, 2015.
Melanie O'Brien,
Manager, National NAGPRA Program.

[FR Doc. 2016-01594 Filed 1-26-16; 8:45 am]

BILLING CODE 4312-50-P